DEPARTMENT OF COMMERCE

Patent and Trademark Office

37 CFR Part 2

[Docket No. 2004-T-046]

RIN 0651-AB82

Waiver of Pixel Requirement for Drawings Filed Electronically

AGENCY: Patent and Trademark Office, Commerce.

ACTIONS: Waiver of rule requiring certain specified pixel count for drawings submitted electronically.

SUMMARY: The United States Patent and Trademark Office (“Office”) is waiving the requirement that drawings filed through the Trademark Electronic Application System (“TEAS”) have a length and width of no less than 250 pixels and no more than 944 pixels.

DATES: Applicability Date: The requirement of 37 CFR 2.53(c) are hereby waived as of October 6, 2004.

FOR FURTHER INFORMATION CONTACT: Cheryl L. Black, Office of the Commissioner for Trademarks, by telephone at (703) 308-8910, ext. 153, or by e-mail to cheryl.black@uspto.gov.

SUPPLEMENTARY INFORMATION:

Background

A final rule amending the Trademark Rules of Practice was published on September 26, 2003, at 68 FR 55748. The purpose of the final rule was to clarify and improve the procedures for processing trademark applications, and to implement the Madrid Protocol Implementation Act of 2002, Public Law 107-273, 116 Stat. 1758, 1913-1921 (“MPIA”), which provide a system for obtaining an international registration. The MPIA amended the Trademark Act of 1946 to implement the provisions of the Protocol Relating to the Madrid Agreement Concerning the International Registration of Marks (“Madrid Protocol”). The final rule added a new § 2.53, setting forth the requirements for a drawing filed through TEAS. Section 2.53(c) provides as follows:

(c) Requirements for digitized image: The image must be in .jpg format and scanned at no less than 300 dots per inch and no more than 350 dots per inch with a length and width of no less than 250 pixels and no more than 944 pixels. All lines must be clean, sharp and solid, not fine or crowded, and produce a high quality image when copied.

These requirements were deemed necessary to ensure that the Office's database contains a clear and accurate reproduction of the mark and meets the 8 cm by 8 cm size limit that is required for an international application under the Madrid Protocol.

The Office has determined that it is not always necessary to have the pixel count required by the rule in order to produce a clear and accurate reproduction of a mark.

Partial Waiver of § 2.53(c)

Accordingly, until further notice, the Office hereby waives the requirement of § 2.53(c) that drawings filed through TEAS must have a length and width of no less than 250 pixels and no more than 944 pixels. Although the requirement is hereby waived, the Office encourages applicants to continue to submit drawings with a length and width of no less than 250 pixels and no more than 944 pixels.

The other requirements of § 2.53(c) remain in effect. That is, a drawing filed through TEAS must be in .jpg format and scanned at no less than 300 dots per inch and no more than 350 dots per inch. All lines must be clean, sharp and solid, not fine or crowded, and produce a high quality image when copied.

Other Considerations

The change addressed in this rule is limited to waiving a requirement that drawings filed through TEAS have a length and width of no less than 250 pixels and no more than 944 pixels. This change involves rules of agency practice and procedure under 5 U.S.C. 553(b)(A). Therefore, prior notice and opportunity for public comment, and thirty-day advance publication, are not required pursuant to 5 U.S.C. 553 (or any other law). As a result, a regulatory flexibility analysis under the Regulatory Flexibility Act (5 U.S.C. 601 et seq.) is not required. See 5 U.S.C. 603.

Dated: September 24, 2004.
Jon W. Dudas,
Under Secretary of Commerce for Intellectual Property and Director of the United States Patent and Trademark Office.

[FR Doc. 04-22365 Filed 10-5-04; 8:45 am]

BILLING CODE 3510-16-P